DEPARTMENT OF ENERGY

Federal Energy Regulatory Commission

Sunshine Act Meeting

AGENCY HOLDING MEETING: Federal Energy Regulatory Commission.

Federal Register Citation of Previous Announcement: May 30, 2000, 65 FR 34465.

Previously Announced time and Date of Meeting: May 31, 2000, 10 a.m.

Change in the Meeting: The following Docket No. and Company has been added as Item CAE-35 on the Agenda scheduled for the May 31, 2000 meeting.

Item No.—Docket No. and Company

CAE-35

ER00-1969-000, New York Independent System Operator, Inc.

EL00-57-000, Niagara Mohawk Power Corporation v. New York Independent System Operator, Inc.

EL00-60-000, Orion Power New York GP, Inc. v. New York Independent System Operator, Inc.

EL00-63-000, New York State Electric & Gas Corporation v. New York Independent System Operator, Inc.

EL00-64-000, Rochester Gas and Electric Corporation v. New York Independent System Operator, Inc.

David P. Boergers,
Secretary.

[FR Doc. 00-14109 Filed 6-1-00; 11:40 am]

BILLING CODE 6717-01-M